AGENCY FOR INTERNATIONAL DEVELOPMENT

Notice of Meeting: Board for International Food and Agricultural Development

Pursuant to the Federal Advisory Committee Act, notice is hereby given of the public meeting of the Board for International Food and Agricultural Development (BIFAD). The meeting will be held from 9:00 a.m. to 12:00 p.m. ET on Wednesday, August 8, 2018, at the Madison A&B on the Mezzanine Level, Marriott Wardman Park Hotel, 2660 Woodley Rd. NW, Washington, DC. Participants may attend in person or join via livestream. The link to the global live stream as well as registration information can be found on BIFAD's home page: http://www.usaid.gov/bifad.

The central theme of this public meeting will be US Benefits Leveraged from Strategic Investments in Developing Country Agriculture and Food Security. Dr. Mark Keenum, BIFAD Chair, will preside over the public business meeting, which will begin promptly at 9:00 a.m. ET with opening remarks. At this meeting the Board will address old and new business, and then invite Agricultural & Applied Economics Association members and other interested individuals to engage in a dialogue and provide feedback on a new study that is being commissioned by BIFAD and USAID. This study will conduct a meta-analysis of US benefits and capabilities that are leveraged from strategic investments in developing country agriculture and food security. Presenting at the meeting is Dr. Joseph Glauber, Senior Research Fellow at the International Food Policy Research Institute (IFPRI), who is leading the study for BIFAD. Dr. Glauber served over 30 years at the US Department of Agriculture, including as Chief Economist from 2008 to 2014.

Beginning at 11:15 a.m. ET, Chairman Keenum will moderate a half-hour public comment period. The public meeting will adjourn at 12:00 p.m. ET with Dr. Keenum's closing remarks.

Those wishing to attend the meeting or obtain additional information about BIFAD should contact Clara Cohen, Designated Federal Officer for BIFAD in the Bureau for Food Security at USAID. Interested persons may write to her in care of the U.S. Agency for International Development, Ronald Reagan Building, Bureau for Food Security, 1300 Pennsylvania Avenue NW, Washington, DC 20523-2110 or telephone her at (202) 712-0119.

Clara Cohen,
Designated Federal Officer, BIFAD, Bureau for Food Security, U.S. Agency for International Development.

[FR Doc. 2018-15413 Filed 7-18-18; 8:45 am]

BILLING CODE P